DEPARTMENT OF ENERGY

Federal Energy Regulatory Commission

[Docket No. RP04-167-000]

Viking Gas Transmission Company; Notice of Proposed Changes in FERC Gas Tariff

February 19, 2004.

Take notice that on February 13, 2004, Viking Gas Transmission Company (Viking) tendered for filing to become part of its FERC Gas Tariff, First Revised Volume No. 1, the following tariff sheets to become effective on April 1, 2004:

Seventh Revised Sheet No. 5H

Original Sheet No. 5H.01

Sixteenth Revised Sheet No. 6B

Original Sheet No. 6B.01

Fifth Revised Sheet No. 87C

Viking states that the purpose of this filing is to make Viking's annual adjustment to its Load Management Cost Reconciliation Adjustment (LMCRA) in accordance with section 154.403 of the Commission's rules and regulations, 18 CFR 154.403 (2002) and section 27 of the General Terms and Conditions of Viking's FERC Gas Tariff and to make minor housekeeping changes related to the LMCRA.

Viking states that copies of the filing have been mailed to all of its jurisdictional customers and to affected State regulatory commissions.

Any person desiring to be heard or to protest said filing should file a motion to intervene or a protest with the Federal Energy Regulatory Commission, 888 First Street, NE., Washington, DC 20426, in accordance with sections 385.214 or 385.211 of the Commission's rules and regulations. All such motions or protests must be filed in accordance with section 154.210 of the Commission's regulations. Protests will be considered by the Commission in determining the appropriate action to be taken, but will not serve to make protestants parties to the proceedings. Any person wishing to become a party must file a motion to intervene. This filing is available for review at the Commission in the Public Reference Room or may be viewed on the Commission's Web site at http://www.ferc.gov using the eLibrary. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the e-Filing link.

Magalie R. Salas,
Secretary.

[FR Doc. E4-396 Filed 2-25-04; 8:45 am]

BILLING CODE 6717-01-P